SMALL BUSINESS ADMINISTRATION

Svoboda Capital Fund IV SBIC, L.P.; License No. 05/05-0327; Notice Seeking Exemption Under Section 312 of the Small Business Investment Act, Conflicts of Interest

Notice is hereby given that Svoboda Capital Fund IV SBIC, L.P., One North Franklin Street, Suite 1500, Chicago, IL 60606, a Federal Licensee under the Small Business Investment Act of 1958, as amended (“the Act”), in connection with the financing of a small concern, has sought an exemption under Section 312 of the Act and Section 107.730, Financings which Constitute Conflicts of lnterest of the Small Business Administration (“SBA”) Rules and Regulations (13 CFR 107.730). Svoboda Capital Fund IV SBIC, L.P. proposes to provide equity security financing to Bully Pulpit Interactive, LLC, 1140 Connecticut Avenue NW., Washington, DC 20036 (“BPI”).

The financing is brought within the purview of § 107.730(a) and (d) of the Regulations because Svoboda Capital Fund IV, L.P. an Associate of Svoboda Capital Fund IV SBIC, L.P., owns more than ten percent of BPI, and therefore this transaction is considered a financing of an Associate requiring prior SBA approval.

Notice is hereby given that any interested person may submit written comments on the transaction, within fifteen days of the date of this publication, to the Associate Administrator for Investment, U.S. Small Business Administration, 409 Third Street SW., Washington, DC 20416.

Dated: September 6, 2017.
A. Joseph Shepard,
Associate Administrator , Office of Investment and Innovation.

[FR Doc. 2017-19485 Filed 9-13-17; 8:45 am]

BILLING CODE P